DEPARTMENT OF HEALTH AND HUMAN SERVICES

National Institutes of Health

National Institute on Aging; Amended Notice of Meeting

Notice is hereby given of a change in the meeting of the National Institute on Aging Special Emphasis Panel, June 14, 2021, 11:30 a.m. to June 14, 2021, 03:30 p.m., National Institute on Aging, Gateway Building, 7201 Wisconsin Avenue, Bethesda, MD, 20892 which was published in the Federal Register on April 06, 2021, 86 FR 17847.

The meeting notice is amended to change the date of the meeting from June 14, 2021 to July 6, 2021. The meeting is closed to the public.

Dated: May 20, 2021.
Miguelina Perez,
Program Analyst, Office of Federal Advisory Committee Policy.

[FR Doc. 2021-11030 Filed 5-24-21; 8:45 am]

BILLING CODE 4140-01-P